DEPARTMENT OF ENERGY

Federal Energy Regulatory Commission

[Project No. 2144-035-Washington]

City of Seattle, WA; Errata Notice

June 20, 2006.

On June 19, 2006 the Commission issued a “Notice of Scoping Meeting and Site Visits” for the above-referenced proceeding. The time listed under item (m), Nighttime Scoping Meeting is corrected as follows:

Date and Time of Meeting: July 19, 2006, from 7 p.m. to 9 p.m. (PDT).

In addition, the fourth sentence under item (m) Site Visits is corrected as follows:

Those interested in participating in site visits must notify Mary Pat DiLeva of their intent at marypat.dileva@seattle.gov by June 30, 2006.

Magalie R. Salas,
Secretary.

[FR Doc. E6-10157 Filed 6-27-06; 8:45 am]

BILLING CODE 6717-01-P